AGENCY FOR INTERNATIONAL DEVELOPMENT

Notice of Public Information Collection Requirements Submitted to OMB for Review

SUMMARY: U.S. Agency for International Development (USAID) has submitted the following information collection to OMB for review and clearance under the Paperwork Reduction Act of 1995.

DATES: Comments regarding this information collection are best assured of having their full effect if received by November 30, 2017.

ADDRESSES: Comments should be addressed to: Desk Officer for USAID, Office of Information and Regulatory Affairs, Office of Management and Budget (OMB), 725 17th Street NW., Washington, DC 20503 or email address: OIRA Submission@OMB.eop.gov.

Copies of submission may be obtained by calling (202) 712-5007.

SUPPLEMENTARY INFORMATION: OMB Number: OMB 0412-XXXX.

Form Number: AID Form 507-1.

Title: Certification of Identity Form.

Type: Renewal and from name change for Information Collection.

Purpose: The purpose of the collection is to enable the U.S. Agency for International Development to locate applicable records and to respond to requests made under the Freedom of Information Act and the Privacy Act of 1974. Information includes sufficient personally identifiable information and/or source documents as applicable. Failure to provide the required information may result in no action being taken on the request. Authority to collect this information is contained in 5 U.S.C. 552, 5 U.S.C. 552a, and 22 CFR 215.4.

Annual Reporting Burden:

Respondents: 600.

Total annual responses: 600.

Total annual hours requested: 9,000.

Dated: October 24, 2017.
Paulette Murray,
Supervisory, Records Information Management Specialist, Bureau for Management Office of Management Services, Information and Records Division.

[FR Doc. 2017-23523 Filed 10-30-17; 8:45 am]

BILLING CODE 6116-01-P